DEPARTMENT OF HEALTH AND HUMAN SERVICES

Food and Drug Administration

[Docket No. FDA-2009-N-0667]

[FDA 225-09-007]

Memorandum of Understanding Between the United States Department of Health and Human Services, Food and Drug Administration, Center for Drug Evaluation and Research and Northeastern University

AGENCY: Food and Drug Administration, HHS.

ACTION: Notice.

SUMMARY: The Food and Drug Administration (FDA) is providing notice of a Memorandum of Understanding (MOU) between FDA and Northeastern University. The purpose of the MOU is to form a collaborative relationship between FDA and Northeastern University; provide opportunities for exchanging of graduate and undergraduate students, faculty, and personnel and for advanced training and outreach; stimulate cooperative research, and information exchange in biological product characterization and regulation with Northeastern University's Barnett Institute of Chemical and Biological Analysis; and develop training programs for FDA and potentially other Government agencies and Industry in the broad areas of biotechnology and analytical chemistry.

DATES: The agreement became effective November 19, 2009.

FOR FURTHER INFORMATION CONTACT: Keith O. Webber, Office of Pharmaceutical Science, Center for Drug Evaluation and Research, Food and Drug Administration, 10903 New Hampshire Ave., Silver Spring, MD 20903, 301-796-2400, e-mail: Keith.webber@fda.hhs.gov.

SUPPLEMENTARY INFORMATION: In accordance with 21 CFR 20.108(c), which states that all written agreements and MOUs between FDA and others shall be published in the Federal Register, the agency is publishing notice of this MOU.

Dated: December 17, 2009.
David Dorsey,
Acting Deputy Commissioner for Policy, Planning and Budget.

BILLING CODE 4160-01-S

[FR Doc. E9-31195 Filed 1-4-10; 8:45 am]

BILLING CODE 4160-01-C